FEDERAL COMMUNICATIONS COMMISSION

47 CFR Part 73

[DA 00-2161; MM Docket No. 00-174, RM-9965]

Radio Broadcasting Services; Kailua-Kona, HI

AGENCY: Federal Communications Commission.

ACTION: Proposed rule.

SUMMARY: The Commission requests comments on a petition filed by Nick Koster proposing the allotment of Channel 244A at Kailua-Kona, Hawaii, as the community's second local aural transmission service. Channel 244A can be allotted to Kailua-Kona in compliance with the Commission's minimum distance separation requirements with no site restriction. The coordinates for Channel 244A at Kailua-Kona are 19-38-26 North Latitude and 155-59-44 West Longitude.

DATES: Comments must be filed on or before November 13, 2000, and reply comments on or before November 28, 2000.

ADDRESSES: Federal Communications Commission, Washington, DC 20554. In addition to filing comments with the FCC, interested parties should serve the petitioner, his counsel, or consultant, as follows: Nick Koster, P.O. Box 340091, Austin, TX 78734.

FOR FURTHER INFORMATION CONTACT: Arthur D. Scrutchins, Mass Media Bureau, (202) 418-2180.

SUPPLEMENTARY INFORMATION: This is a synopsis of the Commission's Notice of Proposed Rule Making, MM Docket No. 00-174; adopted September 13, 2000 and released September 22, 2000. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-25393 Filed 10-3-00; 8:45 am]

BILLING CODE 6712-01-P